NORTHEAST DAIRY COMPACT COMMISSION

Notice of Meeting

AGENCY: Northeast Dairy Compact Commission.

ACTION: Notice of meeting.

SUMMARY: The Compact Commission will hold its regular monthly meeting to consider matters relating to administration and enforcement of the price regulation. This meeting will be held in So. Portland, Maine, continuing the Commission's program of holding a meeting in each of the Compact states. In addition to receiving reports and recommendations of its standing Committees, the Commission will receive a number of informational reports about the impact of the over-order price regulation in Maine.

DATES: The meeting will begin at 10 a.m. on Monday, July 9, 2001.

ADDRESSES: The meeting will be held at the Best Western Merry Manor, 700 Main Street, So. Portland, Maine 04106.

FOR FURTHER INFORMATION CONTACT: Daniel Smith, Executive Director, Northeast Dairy Compact Commission, 64 Main Street, Room 21, Montpelier, VT 05602. Telephone (802) 229-1941.

Authority: 7 U.S.C. 7256.

Dated: June 20, 2001.
Daniel Smith,
Executive Director.

[FR Doc. 01-16044 Filed 6-26-01; 8:45 am]

BILLING CODE 1650-01-P